COMMITTEE FOR PURCHASE FROM PEOPLE WHO ARE BLIND OR SEVERELY DISABLED

Procurement List; Addition and Deletions

AGENCY: Committee for Purchase From People Who Are Blind or Severely Disabled.

ACTION: Addition to and deletions from the Procurement List.

SUMMARY: This action adds products to the Procurement List that will be furnished by a nonprofit agency employing persons who are blind or have other severe disabilities, and deletes products from the Procurement List previously furnished by such agencies.

DATES: Date added to the Procurement List: July 29, 2018.

ADDRESSES: Committee for Purchase From People Who Are Blind or Severely Disabled, 1401 S. Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Addition

On 3/16/2018 (83 FR 52), the Committee for Purchase From People Who Are Blind or Severely Disabled published notice of proposed addition to the Procurement List.

After consideration of the material presented to it concerning capability of a qualified the nonprofit agency to provide the products and impact of the addition on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the products to the Government.

2. The action will result in authorizing a small entity to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s):

MR 11300—Water Bottle, Travel, Addison, 24 oz.

MR 11305—Water Bottle, Travel, Cortland, 24 oz.

MR 11308—Tumbler, Travel, Shake and Go, 20 oz.

MR 11312—Mug, Travel, Stainless Steel, West Loop 2.0, 20 oz.

MR 11314—Mug, Travel, Stainless Steel, West Loop 2.0, 16 oz.

MR 11319—Mug, Travel, Stainless Steel, Classic, 20 oz.

Mandatory Source of Supply: Association for Vision Rehabilitation and Employment, Inc., Binghamton, NY

Contracting Activity: Defense Commissary Agency

Distribution: C-List

Deletions

On 5/18/2018 (83 FR 97) and 5/25/2018 (83 FR 102), the Committee for Purchase From People Who Are Blind or Severely Disabled published notices of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s):

MR 1188—MR Towel Set, Christmas, Includes Shipper 11188

MR 1189—Drying Mat, Microfiber, Holiday Themed

MR 1162—Apron, Father's Day

MR 863—Lint Remover, Roller Type

MR 864—Refill, Lint Roller

Mandatory Source of Supply: Alphapointe, Kansas City, MO

NSN(s)—Product Name(s):

MR 358—Serving Bowl, Patriotic, Plastic 7Qt

MR 351—Containers, Storage, 20PG

MR 329—Silicone Mini Turner

MR 1056—Mop, Spray, Wet

MR 328—Silicone Mini Brush

MR 318—Set, Mixing Bowl, Spill-Free, 3PC

MR 302—Silicone Batter Spoon

MR 303—Silicone Whisk

MR 304—Silicone Tong w/Locking Handle

Mandatory Source of Supply: Industries for the Blind, Inc., West Allis, WI

NSN(s)—Product Name(s):

MR 10658—Loopity Loop Sipper, 11-Ounce, Includes Shipper 20658

MR 10657—Pop Tart Saver, Includes Shipper 20657

MR 10732—Hershey's Lava Cake Maker, Shipper 20732

MR 10733—Reese's Lava Cake Maker, Shipper 20732

MR 10659—Container Set, Soup and Salad, Includes Shipper 20659

MR 10731—Garden Colander. Includes Shipper 20731

Mandatory Source of Supply: Winston-Salem Industries for the Blind, Inc., Winston-Salem, NC

NSN(s)—Product Name(s): MR 3211—Ouchless Headband Flat

Mandatory Source of Supply: Association for Vision Rehabilitation and Employment, Inc., Binghamton, NY

NSN(s)—Product Name(s): MR 896—Turner, Flexible, Thin, 11.5″ x 12″ x 4″

Mandatory Source of Supply: Cincinnati Association for the Blind, Cincinnati, OH

The following information is applicable to all products listed above.

Contracting Activity: Defense Commissary Agency

NSN(s)—Product Name(s): 7530-01-600-2030—Notebook, Stenographer's, Biobased Bagasse Paper, 6 x 9″, 80 sheets, Gregg Rule, White

Mandatory Source of Supply: The Arkansas Lighthouse for the Blind, Little Rock, AR

Contracting Activity: General Services Administration, New York, NY

NSN(s)—Product Name(s):

7510-01-545-3765—DAYMAX System, 2017, Calendar Pad, Type I

7510-01-545-3730—DAYMAX System, 2017, Calendar Pad, Type II

Mandatory Source of Supply: Anthony Wayne Rehabilitation Ctr for Handicapped and Blind, Inc., Fort Wayne, IN

Contracting Activity: General Services Administration, New York, NY

NSN(s)—Product Name(s): 6532-00-197-8201—Hood, Operating, Surgical, White

Mandatory Source of Supply: UNKNOWN

Contracting Activity: Department of Veterans Affairs, Strategic Acquisition Center

Amy Jensen,
Director, Business Operations.

[FR Doc. 2018-14093 Filed 6-29-18; 8:45 am]

BILLING CODE 6353-01-P